DEPARTMENT OF LABOR

Occupational Safety and Health Administration

29 CFR Part 1980

[Docket Number OSHA-2011-0126]

RIN 1218-AC53

Procedures for the Handling of Retaliation Complaints Under Section 806 of the Sarbanes-Oxley Act of 2002, as Amended; Correction

AGENCY: Occupational Safety and Health Administration, Labor.

ACTION: Interim final rule; correction.

SUMMARY: The Occupational Safety and Health Administration is correcting an interim final rule on the procedures for the handling of retaliation complaints under Section 806 of the Sarbanes-Oxley Act of 2002, As Amended, published in the Federal Register of November 3, 2011 (76 FR 68084).

DATES: Effective December 16, 2011.

FOR FURTHER INFORMATION CONTACT: Sandra Dillon, Acting Director, Office of the Whistleblower Protection Program, Occupational Safety and Health Administration, U.S. Department of Labor, Room N-3610, 200 Constitution Avenue NW., Washington, DC 20210; telephone (202) 693-2199.

SUPPLEMENTARY INFORMATION: In FR Doc. 2011-28274 on page 68084 in the Federal Register of Thursday, November 3, 2011, an incorrect amendatory instruction published inadvertently creating duplicate paragraphs (b)(1)(ii) in § 1980.102. This document corrects that error.

Therefore, OSHA amends 29 CFR part 1980 by making the following correcting amendment:

PART 1980—PROCEDURES FOR THE HANDLING OF RETALIATION COMPLAINTS UNDER SECTION 806 OF THE SARBANES-OXLEY ACT OF 2002, AS AMENDED

1. The authority citation for part 1980 continues to read as follows:

Authority: 18 U.S.C. 1514A, as amended by the Dodd-Frank Wall Street Reform and Consumer Protection Act of 2010, Pub. L. 111-203 (July 21, 2010); Secretary of Labor's Order No. 4-2010 (Sept. 2, 2010), 75 FR 55355 (Sept. 10, 2010); Secretary of Labor's Order No. 1-2010 (Jan. 15, 2010), 75 FR 3924 (Jan. 25, 2010).

§ 1980.102 [Corrected]

2. In § 1980.102, redesignate the second paragraph (b)(1)(ii) as paragraph (b)(1)(iii).

Signed at Washington, DC on December 9, 2011.
David Michaels,
Assistant Secretary of Labor for Occupational Safety and Health.

[FR Doc. 2011-32095 Filed 12-15-11; 8:45 am]

BILLING CODE 4510-26-P